DEPARTMENT OF COMMERCE

National Telecommunications and Information Administration

Proposed Information Collection; Comment Request; NTIA/FCC Web-Coordination Collection

ACTION: Notice.

SUMMARY: The U.S. Department of Commerce (DOC), as part of its continuing effort to reduce paperwork and respondent burden, invites the general public and other Federal agencies to comment on the proposed information collection, as required by the Paperwork Reduction Act of 1995, Pub. L. 104-13 (44 U.S.C. 3506(c)(2)(A)).

DATES: Written comments must be submitted on or before March 1, 2004.

ADDRESSES: Direct all written comments to Diana Hynek, Departmental Paperwork Clearance Officer, U.S. Department of Commerce, Room 6625, 14th and Constitution Avenue NW., Washington, DC 20230 (or via the Internet at dHynek@doc.gov).

FOR FURTHER INFORMATION CONTACT: Requests for additional information or copies of the information collection instrument and instructions should be directed to: Michael Doolan, Electronics Engineer, Spectrum Engineering and Analysis Division, Office of Spectrum Management, National Telecommunications and Information Administration, U.S. Department of Commerce, Room 4099A, 14th and Constitution Avenue NW., Washington, DC 20230 (or via the Internet at mdoolan@ntia.doc.gov).

SUPPLEMENTARY INFORMATION:

I. Abstract

The National Telecommunications and Information Administration (NTIA) is developing a web-based system that will collect specific identification information (e.g., company name, location and projected range of the operation, etc.) from applicants seeking to operate in existing and planned radio frequency (RF) bands that are shared on a co-primary basis by federal and non-federal users. The proposed web-based system will provide a means for non-federal applicants to rapidly determine the availability of RF spectrum in a specific location, or the need for detailed frequency coordination of a specific newly proposed assignment within the shared portions of the radio spectrum. The website will allow the non-federal applicant's proposed radio site information to be analyzed, and a real-time determination to be made as to whether there is a potential for interference to, or from, existing Federal government radio operations in the vicinity of the proposed site. This web-based coordination system will help expedite the coordination process for non-federal applicants while assuring protection of government data relating to national security. The information provided by non-federal applicants will also assure the protection of the applicant's station from radio frequency interference from future government operations.

Non-federal applicants will be required to submit information regarding the physical characteristics of the proposed radio station and the proposed location of operation. This information is necessary for a determination of electromagnetic compatibility among radio stations in the frequency band to be made. The name and address of the proposed licensee of the station will also be required, as currently required by the Federal Communications Commission. All data requested by the website is currently required for the coordination of non-federal radio stations in RF spectrum that is shared with the federal government.

II. Method of Collection

The application and instructions for the application will reside on NTIA's website. Non-federal applicants will submit applications electronically through the website. NTIA responses will also be provided electronically to applicants.

III. Data

OMB Number: None.

Form Numbers: None.

Type of Review: Regular submission.

Affected Public: Business or other for-profit organizations, state or local government.

Estimated Number of Respondents: 3,000.

Estimated Time Per Response: 15 minutes.

Estimated Total Annual Respondent Burden Hours: 750.

Estimated Total Annual Respondent Cost Burden: None.

Legal Authority: 47 U.S.C. 902(b)(2)(L)(ii).

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on applicants, e.g., the use of automated collection techniques or other forms of information technology.

Comments submitted in response to this notice will be summarized or included in the request for OMB approval of this information collection; they also will become a matter of public record.

Dated: December 24, 2003.
Gwellnar Banks,
Management Analyst, Office of the Chief Information Officer.

[FR Doc. 03-32222 Filed 12-30-03; 8:45 am]

BILLING CODE 3510-60-P